DEPARTMENT OF ENERGY

Federal Energy Regulatory Commission

Combined Notice of Filings #1

Take notice that the Commission received the following electric corporate filings:

Docket Numbers: EC18-47-000.

Applicants: SR South Loving LLC, Hattiesburg Farm, LLC, Shell New Energies US LLC.

Description: Application under FPA Section 203 of Hattiesburg Farm, LLC, et. al.

Filed Date: 1/19/18.

Accession Number: 20180119-5200.

Comments Due: 5 p.m. ET 2/9/18.

Docket Numbers: EC18-48-000.

Applicants: Horse Butte Wind I LLC.

Description: Application of Horse Butte Wind I LLC for Authorization Under Section 203 of the Federal Power Act for Disposition of Jurisdictional Facilities.

Filed Date: 1/19/18.

Accession Number: 20180119-5219.

Comments Due: 5 p.m. ET 2/9/18.

Docket Numbers: EC18-49-000.

Applicants: Northern Indiana Public Service Company.

Description: Application for Approval of Acquisition of Transmission Facilities Pursuant to Section 203 of the Federal Power Act of Northern Indiana Public Service Company.

Filed Date: 1/22/18.

Accession Number: 20180122-5058.

Comments Due: 5 p.m. ET 2/12/18.

Take notice that the Commission received the following electric rate filings:

Docket Numbers: ER10-2794-024; ER14-2672-009; ER12-1825-022.

Applicants: EDF Trading North America, LLC, EDF Energy Services, LLC, EDF Industrial Power Services (CA), LLC.

Description: Notice of Non-Material Change in Status of EDF Trading North America, LLC, et. al.

Filed Date: 1/22/18.

Accession Number: 20180122-5068.

Comments Due: 5 p.m. ET 2/12/18.

Docket Numbers: ER10-2984-038.

Applicants: Merrill Lynch Commodities, Inc.

Description: Notice of Non-Material Change in Status of Merrill Lynch Commodities, Inc.

Filed Date: 1/22/18.

Accession Number: 20180122-5101.

Comments Due: 5 p.m. ET 2/12/18.

Docket Numbers: ER11-4501-013; ER12-979-012.

Applicants: Caney River Wind Project, LLC, Rocky Ridge Wind Project, LLC.

Description: Notice of Non-Material Change in Status of Caney River Wind Project, LLC, et al.

Filed Date: 1/19/18.

Accession Number: 20180119-5190.

Comments Due: 5 p.m. ET 2/9/18.

Docket Numbers: ER16-2201-004.

Applicants: Antelope DSR 1, LLC.

Description: Compliance filing: Antelope DSR 1 Notice of Change in Category Status to be effective 1/18/2018.

Filed Date: 1/18/18.

Accession Number: 20180118-5068.

Comments Due: 5 p.m. ET 2/8/18.

Docket Numbers: ER17-1741-002.

Applicants: Southwest Power Pool, Inc.

Description: Compliance filing: Central Nebraska Stated Rate Revisions Settlement Compliance Filing to be effective 1/1/2018.

Filed Date: 1/22/18.

Accession Number: 20180122-5064.

Comments Due: 5 p.m. ET 2/12/18.

Docket Numbers: ER18-686-000.

Applicants: Duke Energy Progress, LLC.

Description: § 205(d) Rate Filing: DEP-DEP E&P Agmnt Cumberland CC to be effective 2/1/2018.

Filed Date: 1/22/18.

Accession Number: 20180122-5029.

Comments Due: 5 p.m. ET 2/12/18.

Docket Numbers: ER18-687-000.

Applicants: Southwest Power Pool, Inc.

Description: § 205(d) Rate Filing: 3384 Central Power/Otter Tail/MISO Interconnection Agreement to be effective 1/1/2018.

Filed Date: 1/22/18.

Accession Number: 20180122-5030.

Comments Due: 5 p.m. ET 2/12/18.

Docket Numbers: ER18-688-000.

Applicants: PJM Interconnection, L.L.C.

Description: § 205(d) Rate Filing: Original Interim ISA SA No. 4883; Queue No. AD1-025 to be effective 12/22/2017.

Filed Date: 1/22/18.

Accession Number: 20180122-5049.

Comments Due: 5 p.m. ET 2/12/18.

Docket Numbers: ER18-689-000.

Applicants: Midcontinent Independent System Operator, Inc., Otter Tail Power Company.

Description: § 205(d) Rate Filing: 2018-01-22_SA 3075 OTP-CPEC TIA and Termination of SA 2713 and SA 2606 to be effective 1/1/2018.

Filed Date: 1/22/18.

Accession Number: 20180122-5056.

Comments Due: 5 p.m. ET 2/12/18.

Docket Numbers: ER18-690-000.

Applicants: Meyersdale Windpower LLC.

Description: § 205(d) Rate Filing: Amended and Restated Common Facilities Agreement to be effective 1/12/2018.

Filed Date: 1/22/18.

Accession Number: 20180122-5140.

Comments Due: 5 p.m. ET 2/12/18.

Docket Numbers: ER18-691-000.

Applicants: Midcontinent Independent System Operator, Inc.

Description: § 205(d) Rate Filing: 2018-01-22_SA 3083 Lake Benton-NSP GIA (J790) to be effective 1/5/2018.

Filed Date: 1/22/18.

Accession Number: 20180122-5143.

Comments Due: 5 p.m. ET 2/12/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 22, 2018.
Nathaniel J. Davis, Sr.,
Deputy Secretary.

[FR Doc. 2018-01527 Filed 1-26-18; 8:45 am]

BILLING CODE 6717-01-P